NATIONAL AERONAUTICS AND SPACE ADMINISTRATION

14 CFR Part 1204

[Docket No. NASA-2012-0004]

RIN 2700-AD78

Use of the Centennial of Flight Commission Name; Correction

AGENCY: National Aeronautics and Space Administration.

ACTION: Direct final rule; correction.

SUMMARY: This document corrects a direct final rule that made nonsubstantive changes by removing a regulation that is obsolete and no longer used. The revisions to the direct final rule are part of NASA's retrospective plan under Executive Order (EO) 13563 completed in August 2011. NASA's full plan can be accessed on the Agency's open government Web site at http://www.nasa.gov/open/.

DATES: This correction is effective on December 3, 2012.

FOR FURTHER INFORMATION CONTACT: Nanette Jennings, 202-358-0819.

SUPPLEMENTARY INFORMATION: NASA published FR Doc. 2012-23649 in the Federal Register of October 4, 2012 (77 FR 60619) removing regulations that are obsolete and no longer in use. In the rule under the heading “Part 1204—Administrative Authority and Policy” an incorrect amendatory instruction is being corrected.

Part 1204

Subpart 5—[Corrected]

On page 60620, in the first column, correct amendatory instruction 1 to read as follows:

“1. The authority citation for part 1204 subpart 5 is revised to read as follows:”

Cheryl E. Parker,
Federal Register Liaison.

[FR Doc. 2012-26273 Filed 10-24-12; 8:45 am]

BILLING CODE 7510-13-P